DEPARTMENT OF COMMERCE

National Oceanic and Atmospheric Administration

RIN 0648-XD950

Western Pacific Fishery Management Council; Public Meeting

AGENCY: National Marine Fisheries Service (NMFS), National Oceanic and Atmospheric Administration (NOAA), Commerce.

ACTION: Notice of public meeting.

SUMMARY: The Western Pacific Fishery Management Council (Council) will hold a meeting of its Social Science Planning Committee (SSPC) in Honolulu, HI.

DATES: The SSPC meeting will be held on Monday, June 8, 2015, from 9 a.m. to 12 p.m.

ADDRESSES: The teleconference will be conducted by telephone and by web. The teleconference numbers are: U.S. toll-free: 1-888-482-3560 or International Access: +1 647 723-3959, and Access Code: 5228220. The webconference can be accessed at https://wprfmc.webex.com/join/info.wpcouncilnoaa.gov.

FOR FURTHER INFORMATION CONTACT: Kitty M. Simonds, Executive Director; telephone: (808) 522-8220.

SUPPLEMENTARY INFORMATION: A public comment period will be provided. The order in which agenda items are addressed may change. The Committee will meet as late as necessary to complete scheduled business.

Agenda

9 a.m., Monday, June 8, 2015

1. Introductions

2. Approval of Agenda

3. Status of June 2014 Meeting Recommendations

4. Update on Recent WPFMC Human Dimensions Activities

5. New WPRFMC Annual Fishery Report Contents and Process

6. Status of WPFMC Human Communities Priorities

7. Current Pacific Islands Region Human Dimensions Research

A. Non-commercial Knowledge, Attitudes, and Perceptions Survey

B. MRIP Boat-Based Intercept Pilot

C. Guam Fishing Conflict

D. Yellowfin Commercial Size Limit—Social and Economic Impacts

E. Other

8. Social Scientists in Regional Fisheries Management Working Group Meeting Key Conclusions

9. Other Business

10. Public Comment

11. Committee Recommendations

12. Next Social Science Planning Committee Meeting

A. Date

B. Agenda items

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 19, 2015.
Tracey L. Thompson,
Acting Deputy Director, Office of Sustainable Fisheries, National Marine Fisheries Service.

[FR Doc. 2015-12496 Filed 5-21-15; 8:45 am]

BILLING CODE 3510-22-P